ENVIRONMENTAL PROTECTION AGENCY

[FRL-9991-58-OW]

Environmental Financial Advisory Board (EFAB); Request for Nominations of Expert Consultants on Stormwater Funding and Financing

AGENCY: Environmental Protection Agency (EPA).

ACTION: Notice. Request for nominations of expert consultants to the Environmental Financial Advisory Board (EFAB) on stormwater funding and financing.

SUMMARY: The United States Environmental Protection Agency (EPA) invites nominations of qualified candidates to be considered for expert consultants to the Environmental Financial Advisory Board (EFAB). The expert consultants will advise the EFAB workgroup focused on stormwater funding and financing responsive to the America's Water Infrastructure Act of 2018, Section 4101 (STORMWATER INFRASTRUCTURE FUNDING TASK FORCE). Expert consultants will provide knowledge, information, and contribute to the EFAB Stormwater Finance Workgroup's recommendations to the EPA in the following areas: Identify how funding for stormwater infrastructure from such sources has been made available, and utilized, in each state to address stormwater infrastructure needs; Identify how the source of funding affects the affordability of the infrastructure, including consideration of the costs associated with financing the infrastructure; and Evaluate whether such sources of funding are sufficient to support capital expenditures and long-term operation and maintenance costs. Additional, related, areas may be identified in the first meeting. Experts will serve through the end of April 2020.

The deadline for receiving nominations is Friday, April 19, 2019. Appointments will be made by EFAB's Designated Federal Officer and will be announced in early May 2019. A meeting is expected to be held in Washington, DC, on June 6, 2019.

DATES: Nominations should be electronically submitted to waterfinancecenter@epa.gov with the subject line “EFAB Stormwater Finance Workgroup—Expert Consultant Nomination” no later than 11:59 p.m. local time on Friday, April 19, 2019.

FOR FURTHER INFORMATION CONTACT: Contact Ellen Tarquinio (tarquinio.ellen@epa.gov) with questions about the workgroup.

SUPPLEMENTARY INFORMATION:

Evaluation Criteria: The Administrator of the EPA will appoint up to 20 external expert consultants to advise the members of the EFAB that comprise the stormwater finance workgroup.

EPA values and welcomes diversity. In an effort to obtain a diverse pool of candidates, EPA encourages nominations of women and men of all racial and ethnic groups. The following criteria will be used to evaluate nominees: Representation from Federal agencies, state government, local government, private sector, and non-profit organizations; demonstrated expertise in stormwater funding and/or financing, stormwater technical experience, stormwater stakeholder engagement, or water infrastructure funding and management; geographic diversity; and varying community characteristics experience.

Nominations for membership must include a resume describing the professional and/or educational qualifications of the nominee as well as expertise/experience. Contact details should include full name, affiliation title, business mailing address, telephone, and email address. A supporting letter of endorsement is encouraged but not required.

Environmental Financial Advisory Board (EFAB): The Environmental Financial Advisory Board (EFAB) was chartered in 1989 under the Federal Advisory Committee Act to provide advice and recommendations to EPA on the following issues: Creating incentives to increase private investment in the provision of environmental services and removing or reducing constraints on private involvement imposed by current regulations; developing new and innovative environmental financing approaches and supporting and encouraging the use of cost-effective existing approaches; identifying approaches specifically targeted to small/disadvantaged community financing; increasing the capacity of state and local governments to carry out their respective environmental programs under current Federal tax laws; analyzing how new technologies can be brought to market expeditiously; increasing the total investment in environmental protection of public and private environmental resources to help ease the environmental financing challenge facing our nation.

The EFAB typically meets two times each calendar year (up to two days per meeting) at different locations within the continental United States. EFAB Workgroups focusing on specific environmental finance topics typically meet over conference calls in between the in-person meetings to discuss recommendations and other work products. These recommendations and/or work products are voted on by the full EFAB before they are provided to the EPA.

Expert consultants for the Stormwater Finance Workgroup are expected to attend the in-person meetings and participate on workgroup conference calls that will occur up to twice a month through November 2019. Expert consultants will receive no salary or other compensation for participation in workgroup activities. Reimbursement for travel and per diem is subject to funding availability.

Expert consultants are expected to assist in the development of workgroup discussions, reports, and recommendations on stormwater funding and financing resulting in a final recommendation report submitted to the EPA by Friday, December 6, 2019. Expert consultants are expected to fully participate, coordinate, and contribute to EFAB workgroup products, but are not able to vote, on EFAB's final recommendations. The EFAB workgroup will focus specifically on a report to EPA that is responsive to the America's Water Infrastructure Act of 2018, Section 4101.

Dated: March 21, 2019.
Andrew Sawyers,
Director, Office of Wastewater Management, Office of Water.

[FR Doc. 2019-06483 Filed 4-2-19; 8:45 am]

BILLING CODE 6560-50-P